GENERAL SERVICES ADMINISTRATION

[Notice-PBS-2024-13; Docket No. 2024-0002; Sequence No. 45; UNIQUE IDENTIFIER: SEIS-023-00-009-1727281974]

Notice of Intent To Prepare a Supplemental Environmental Impact Statement for the Expansion and Modernization of the Raul Hector Castro Land Port of Entry and Proposed Commercial Land Port of Entry in Douglas, Arizona

AGENCY: Public Buildings Service (PBS), General Services Administration (GSA).

ACTION: Notice of intent (NOI); announcement of public scoping meeting.

SUMMARY: Pursuant to the requirements of the National Environmental Policy Act of 1969 (NEPA), the Council on Environmental Quality Regulations, and the GSA Public Buildings Service NEPA Desk Guide, GSA is issuing this notice to advise the public that a Supplemental Environmental Impact Statement (SEIS) will be prepared to evaluate potential environmental impacts from a proposed flood channel realignment and expansion of retention basin to the west of the Raul Hector Castro (RHC) Land Port of Entry (LPOE) in Douglas, Arizona. This NOI also announces the public scoping process for the SEIS.

DATES:

Public Scoping Period—The public scoping period begins on Friday, October 11, 2024. Interested parties are encouraged to provide comments regarding the scope of the SEIS. Written comments must be received by November 11, 2024 (see ADDRESSES section of this NOI on how to submit comments).

Meeting Date—A public scoping meeting will be held on Thursday, October 24, 2024, from 4:00 p.m. to 6:00 p.m. The meeting will be held in the Douglas Visitor Center (see ADDRESSES section for location address), where GSA will meet with governmental and public stakeholders to explain the project and obtain input on the scope of the project. The meeting will be an informal open house, where visitors may come, receive information, and provide written comments. No formal presentation will be provided.

ADDRESSES:

Public Scoping Comments—You may send comments, identified by [2024-0002], by one of the following methods:

• Email: Osmahn.Kadri@gsa.gov. Include [2024-0002] in the subject line of the message.

• Mail: Attention: Osmahn Kadri, NEPA Project Manager, U.S. General Services Administration, c/o Potomac-Hudson Engineering, Inc., 77 Upper Rock Circle, Suite 302, Rockville, MD 20850.

Meeting Location—A public scoping meeting will be held at the Douglas Visitor Center, 345 16th St., Douglas, AZ 85607.

FOR FURTHER INFORMATION CONTACT: Osmahn Kadri, 415-522-3617, Osmahn.Kadri@gsa.gov.

SUPPLEMENTARY INFORMATION:

Background

GSA is beginning preparation of a SEIS to analyze the potential impacts resulting from the proposed realignment and reconstruction of the Rose Avenue Channel and construction of a new stormwater retention basin west of the expanded and modernized RHC LPOE. This SEIS will supplement the previous Environmental Impact Statement (EIS) for the RHC LPOE expansion and modernization project. GSA signed the Record of Decision (ROD) for the Final EIS for the Expansion and Modernization of the RHC LPOE and Proposed Commercial LPOE in Douglas, Arizona on May 6, 2024. GSA approved the preferred alternative, identified in the Final EIS as Alternative 2 (Concurrent Construction—Westward Expansion), which would involve construction of a new Commercial LPOE and phased expansion and modernization of the existing RHC LPOE at the same time, with expansion primarily to the west of the existing RHC LPOE.

Under the Proposed Action for the SEIS, the existing concrete box culvert beneath the LPOE would be partially maintained and extended westward near the existing vehicle inspection booths. From there, an open channel would be constructed generally parallel and to the north of Border Road and would discharge into an existing wash just west of Chino Road. The existing north-south channel that runs parallel to Pan American Avenue would be abandoned and sealed or demolished in conjunction with the expansion and modernization of the RHC LPOE. An expanded stormwater retention basin would also be constructed just west of the existing Alternative 2 Expansion Area as identified in the Final EIS. In addition to the Proposed Action, GSA will also consider the No Action Alternative.

The purpose of the Proposed Action is to address stormwater management and flood control needs for the expanded and modernized RHC LPOE. The need for the Proposed Action is that the current alignment of the Rose Avenue Channel will result in engineering conflicts with the current proposed layout for the expanded RHC LPOE and requires re-routing. Additional land area is also required for necessary stormwater retention at the expanded and modernized RHC LPOE.

Preliminary analysis indicates that short-term adverse environmental impacts may occur during construction on air quality and greenhouse gases from emissions; geology and soils and water resources from ground disturbance; and biological resources from ground disturbance and construction noise. GSA will be conducting a jurisdictional determination, archaeological survey, and Phase I Environmental Site Assessment to inform potential impacts to Waters of the United States, cultural resources, and human health and safety, respectively. Minimal or no impacts are expected to occur to the following resources: transportation and traffic; noise; socioeconomics, and environmental justice. Beneficial impacts are expected to infrastructure and utilities from the improvement of stormwater management facilities. The Proposed Action may require acquisition of additional land to the west of the RHC LPOE. Necessary permits and authorizations will be identified within the Draft EIS.

The Draft EIS is expected to be published in early 2025.

Russell Larson,
Director, Portfolio Management Division, Pacific Rim Region, Public Buildings Service.

[FR Doc. 2024-23200 Filed 10-7-24; 8:45 am]

BILLING CODE 6820-YF-P